DEPARTMENT OF TRANSPORTATION

Intelligent Transportation Systems Program Advisory Committee; Notice of Meeting

AGENCY: Research and Innovative Technology Administration, DOT.

ACTION: Notice.

This notice announces, pursuant to Section 10(a)(2) of the Federal Advisory Committee Act (FACA) (Pub. L. 72-363; 5 U.S.C. app. 2), a Web conference of the Intelligent Transportation Systems (ITS) Program Advisory Committee (ITS PAC). The Web conference will be held on May 18, 2011, from 1 p.m. to 4 p.m.

The ITS PAC, established under Section 5305 of Public Law 109-59, Safe, Accountable, Flexible, Efficient Transportation Equity Act: A Legacy for Users, August 10, 2005, and re-chartered on February 7, 2010, was created to advise the Secretary of Transportation on all matters relating to the study, development, and implementation of intelligent transportation systems. Through its sponsor, the ITS Joint Program Office (JPO), the ITS PAC makes recommendations to the Secretary regarding ITS Program needs, objectives, plans, approaches, content, and progress.

Following is the Web conference preliminary agenda: (1) Welcome and Opening Remarks; (2) Review Technology Strategy Subcommittee Findings; (3) Review Standards and Harmonization Subcommittee Findings; (4) Review Program Evaluation and Strategy Subcommittee Findings; and (5) Summary and Action Item Review.

The Web conference will be available to the public, but limited conference lines will be available on a first-come, first-serve basis. Members of the public who wish to participate must notify Mr. Stephen Glasscock, the Committee Designated Federal Official, at (202) 366-9126 no later than May 11, 2011, at which time the Web conference URL and call-in phone number will be provided. Members of the public who wish to present oral statements during the Web conference must request approval from Mr. Glasscock no later than May 11, 2011.

Questions about the agenda or written comments may be submitted by U.S. Mail to: U.S. Department of Transportation, Research and Innovative Technology Administration, ITS Joint Program Office, Attention: Stephen Glasscock, 1200 New Jersey Avenue, SE., HOIT, Room E33-415, Washington, DC 20590 or faxed to (202) 493-2027. The JPO requests that written comments be submitted no later than May 11, 2011.

Notice of this Web conference is provided in accordance with the FACA and the General Services Administration regulations (41 CFR part 102-3) covering management of Federal advisory committees.

Issued in Washington, DC, on the 19th day of April 2011.
Linda Dodge,
Chief of Staff, ITS Joint Program Office.

[FR Doc. 2011-9954 Filed 4-22-11; 8:45 am]

BILLING CODE 4910-HY-P